DEPARTMENT OF ENERGY

Federal Energy Regulatory Commission

[Docket No. EC03-49-000, et al.]

The AES Corporation, et al.; Electric Rate and Corporate Filings

February 3, 2003.

The following filings have been made with the Commission. The filings are listed in ascending order within each docket classification.

1. The AES Corporation, Mountainview Power Company, Mountainview Power Company, LLC, Sequoia Generating LLC

[Docket No. EC03-49-000]

Take notice that on January 28, 2003, The AES Corporation, Mountainview Power Company (Mountainview), Mountainview Power Company, LLC and Sequoia Generating LLC (Sequoia) tendered for filing with the Federal Energy Regulatory Commission (Commission) a Joint Application for Expedited Approval of the Disposition of Jurisdictional Facilities Under Section 203 of the Federal Power Act for the sale of certain jurisdictional assets of Mountainview to Sequoia.

Comment Date: February 18, 2003.

2. Arizona Public Service Company

[Docket No. ER99-3288-009]

Take notice that on January 30, 2003, Arizona Public Service Company (APS) tendered for filing the final Quarterly Refund payments to eligible wholesale customers under the Company's Fuel Cost Adjustment Clause (FAC) from reparation payments made by Burlington Northern and Santa Fe Railway Company.

A copy of this filing has been served upon the affected parties, the California Public Utilities Commission, and the Arizona Corporation Commission.

Customer Name | APS-FPC/FERC Rate Schedule
Electrical District No. 3 | 12
Tohono O'odham Utility Authority | 52
Arizona Electric Power Cooperative | 57
Wellton-Mohawk Irrigation and Drainage District | 58
Arizona Power Authority | 59
Colorado River Indian Irrigation Project | 65
Electrical District No. 1 | 68
Arizona Power Pooling | 70
Town of Wickenburg | 74
Southern California Edison Company | 120
Electrical District No. 6 | 126
Electrical District No. 7 | 128
City of Page | 134
Electrical District No. 8 | 140
Aguila Irrigation District | 141
McMullen Valley Water Conservation and Drainage District | 142
Tonopah Irrigation District | 143
Citizens Utilities Company | 207
Harquahala Valley Power District | 153
Buckeye Water Conservation and Drainage District | 155
Roosevelt Irrigation District | 158
Maricopa County Municipal Water Conservation District | 168
City of Williams | 192
San Carlos Indian Irrigation Project | 201
Maricopa County Municipal Water Conservation District at Lake Pleasant | 209

Comment Date: February 20, 2003.

3. NewEngland Power Pool, ISO New England, Inc.

[Docket No. ER02-2330-008]

Take notice that on January 28, 2003, ISO New England, Inc., submitted its notice in the above docket of the Designated Congestion Areas (DCAs) and applicable DCA threshold values that will be utilized for calendar year 2003 and has proposed that such designations be effective only after this Commission's order on the informational filing. The NEPOOL Participant Committee joined in that filing for the purposes stated therein.

The ISO has requested that the Commission act no later than February 28, 2003, to allow implementation for the April 2003 markets.

Comment Date: February 18, 2003.

4. PJM Interconnection, L.L.C.

[Docket No. ER02-2470-001]

Take notice that on January 30, 2003, in compliance with the Commission's October 15, 2002 letter order in this proceeding, PJM Interconnection, L.L.C., (PJM) submitted for filing a substitute interconnection service agreement between PJM and National Institutes of Health and a refund report.

PJM states that copies of this filing were served upon all persons on the official service list and National Institutes of Health.

Comment Date: February 20, 2003.

5. PJM Interconnection, L.L.C.

[Docket No. ER02-2471-001]

Take notice that on January 30, 2003, in compliance with the Commission's October 15, 2002 letter order in this proceeding, PJM Interconnection, L.L.C., (PJM) submitted for filing two substitute interconnection service agreements between PJM and PPL West Earl, L.L.C., one notice of cancellation, and a refund report.

PJM states that copies of this filing were served upon all the persons designated on the official service list and PPL West Earl, L.L.C.

Comment Date: February 20, 2003.

6. PJM Interconnection, L.L.C.

[Docket No. ER02-2472-001]

Take notice that on January 30, 2003, in compliance with the Commission's October 15, 2002 letter order in this proceeding, PJM Interconnection, L.L.C., (PJM) submitted for filing two substitute interconnection service agreements between PJM and Tosco Corporation and Tosco Refining Company, one notice of cancellation, and a refund report.

PJM states that copies of this filing were served upon all persons on the official service list and the parties to the agreements.

Comment Date: February 20, 2003.

7. PJM Interconnection, L.L.C.

[Docket No. ER02-2478-001]

Take notice that on January 30, 2003, in compliance with the Commission's October 16, 2002 letter order in this proceeding, PJM Interconnection, L.L.C., (PJM) submitted for filing a substitute interconnection service agreement between PJM and Global Winds Harvest, Inc and P&T Technology AG and a refund report.

Copies of this filing were served upon all persons on the official service list and the parties to the agreement.

Comment Date: February 20, 2003.

8. PJM Interconnection, L.L.C.

[Docket No. ER02-2491-002]

Take notice that on January 30, 2003, PJM Interconnection, L.L.C., (PJM) amended its compliance filing made January 24, 2003 in Docket No. ER02-2491-001 to withdraw an interconnection service agreement designated as Substitute Service Agreement No. 727 included in the compliance filing.

PJM states that copies of this filing were served upon all the persons on the official service list and PPL Martins Creek LLC, the party to the interconnection service agreement. Comment Date: February 20, 2003.

9. Southern Company Services, Inc.

[Docket Nos. ER03-211-001 and ER03-212-001]

Take notice that on January 30, 2003, Southern Company Services, Inc. (SCS), as agent for Georgia Power Company (Georgia Power), tendered for filing an amendment to SCS's filing in Docket No. ER03-211-000 of an Interconnection Agreement by and between Southern Power Company (Southern Power) and Georgia Power for Southern Power's McIntosh CC Unit 1 and an amendment to SCS's filing in Docket No. ER03-212-000 of an Interconnection Agreement by and between Southern Power and Georgia Power for Southern Power's McIntosh CC Unit 2, as service agreements under Southern Operating Companies' Open Access Transmission Tariff (FERC Electric Tariff, Fourth Revised Volume No. 5).

The amendment contains SCS's response to the December 16, 2002, letter issued in Docket Nos. ER03-211-000 and ER03-212-000 by Mr. Steve P. Rodgers, Director, Division of Tariff and Market Development—South.

Comment Date: February 20, 2003.

10. Las Vegas Cogeneration II, L.L.C.

[Docket No. ER03-222-002]

Take notice that on January 30, 2003, Las Vegas Cogeneration II, L.L.C., filed substitute pages for the proposed market-based rate wholesale power sales rate schedule that LV Cogen filed with the Federal Energy Regulatory Commission in the referenced docket on November 25, 2002.

Comment Date: February 20, 2003.

11. Ameren Services Company

[Docket No. ER03-326-001]

Take notice that on January 30, 2003, Ameren Services Company (ASC) tendered for filing a Network Integration Transmission Service Agreement and Network Operating Agreement between ASC and Ameren Energy Marketing Company. ASC asserts that the purpose of the Agreements is to replace the unexecuted Agreements in Docket No. ER03-326-000 with the executed Agreements.

Comment Date: February 20, 2003.

12. Automated Power Exchange, Inc.

[Docket No. ER03-456-000]

Take notice that on January 29, 2003, Automated Power Exchange, Inc. (APX) submitted for filing an annual report for 2002.

Comment Date: February 20, 2003.

13. Oklahoma Gas and Electric Company

[Docket No. ER03-457-000]

Take notice that on January 29, 2003, Oklahoma Gas and Electric Company (OG&E) submitted for filing a service agreement for power sales (the Agreement) between OG&E and The City of Paris, Arkansas (Paris) under OG&E's Power Sales Tariff.

OG&E requests an effective date of February 1, 2003 for the Agreement. Accordingly, OG&E requests waiver of the Commission's notice requirements. Copies of this filing were served upon Paris and the Oklahoma Corporation Commission.

Comment Date: February 19, 2003.

14. American Electric Power Service Corporation

[Docket No. ER03-458-000]

Take notice that on January 30, 2003, the American Electric Power Service Corporation (AEPSC) tendered for filing an executed Interconnection and Operation Agreement and Memorandum of Understanding between Indiana Michigan Power Company and Berrien Energy Center, LLC. The agreement is pursuant to the AEP Companies' Open Access Transmission Service Tariff (OATT) that has been designated as the Operating Companies of the American Electric Power System FERC Electric Tariff Third Revised Volume No. 6, effective July 31, 2001.

AEP requests an effective date of March 29, 2003. AEPSC states that a copy of the filing was served upon Berrien Energy Center, LLC, the Indiana Utility Regulatory Commission and Michigan Public Service Commission.

Comment Date: February 20, 2003.

15. Ameren Services Company

[Docket No.ER03-459-000]

Take notice that on January 30, 2003, Ameren Services Company (ASC) tendered for filing executed Service Agreements for Firm Point-to-Point Services between ASC and Ameren Energy Marketing Company and Ameren Energy, Inc.(2). ASC asserts that the purpose of the Agreements is to permit ASC to provide transmission services to Ameren Energy Marketing Company and Ameren Energy, Inc. pursuant to Ameren's Open Access Transmission Tariff.

Comment Date: February 20, 2003.

16. Ameren Services Company

[Docket No. ER03-460-000]

Take notice that on January 30, 2003, Ameren Services Company (ASC) tendered for filing an unexecuted Service Agreement for Firm Point-to-Point Services between ASC and Cinergy Services, Inc. ASC asserts that the purpose of the Agreement is to permit ASC to provide transmission service to Cinergy Services, Inc. pursuant to Ameren's Open Access Transmission Tariff.

Comment Date: February 20, 2003.

17. Progress Energy Service Company on behalf of Progress Energy Carolinas

[Docket No. ER03-461-000]

Take notice that on January 30, 2003, Progress Energy Service Company on behalf of Progress Energy Carolinas (Progress Carolinas) tendered for filing a Service Agreement for Network Integration Transmission Service and a Network Operating Agreement with The Town of Waynesville, NC. Service to this Eligible Customer will be in accordance with the terms and conditions of the Open Access Transmission Tariff filed on behalf of Progress Carolinas.

Progress Carolinas is requesting an effective date of January 1, 2003 for this Service Agreement. Progress Carolinas states that a copy of the filing was served upon the North Carolina Utilities Commission and the South Carolina Public Service Commission.

Comment Date: February 20, 2003.

18. PSI Energy, Inc.

[Docket No.ER03-462-000]

Take notice that on January 30, 2003, PSI Energy, Inc. (PSI), tendered for filing the Transmission and Local Facilities (T&LF) Agreement Calendar Year 2001 Reconciliation between PSI and Wabash Valley Power Association, Inc., and between PSI and Indiana Municipal Power Agency. The T&LF Agreement has been designated as PSI's Rate Schedule FERC No. 253.

Comment Date: February 20, 2003.

19. Midwest Independent Transmission System Operator, Inc.

[Docket No. ER03-463-000]

Take notice that on January 30, 2003, the Midwest Independent Transmission System Operator, Inc. (Midwest ISO) submitted for filing Notices of Succession of certain Transmission Service Agreements and Network Integration Transmission Service and Operating Agreements entered into by and between (I) Michigan Electric Transmission Company (METC) or Michigan Electric Transmission Company, LLC (Michigan Transco LLC) and various transmission customers; (ii) International Transmission Company (International Transmission) and its corporate parent, DTE Energy Company (DTE Energy) and various transmission customers; and (iii) the Midwest ISO and various transmission customers.

The Midwest ISO has requested waiver of the sixty (60)-day effective date and has requested an effective date of January 1, 2003, the date the provision of transmission services across the transmission facilities of (I) METC or Michigan Transco LLC and (ii) International Transmission and DTE Energy under various ongoing Transmission Service Agreements and Network Transmission Service and Operating Agreements commenced under the Midwest ISO OATT.

The Midwest ISO has served copies of its filing on all affected customers. In addition, the Midwest ISO has electronically served a copy of this filing, without attachments, upon all Midwest ISO Members, Member representatives of Transmission Owners and Non-Transmission Owners, the Midwest ISO Advisory Committee participants, Policy Subcommittee participants, as well as all state commissions within the region. In addition, the filing has been electronically posted on the Midwest ISO's Web site at http://www.midwestiso.org under the heading “Filings to FERC” for other interested parties in this matter. The Midwest ISO will provide hard copies to any interested parties upon request.

Comment Date: February 20, 2003.

20. Ameren Services Company

[Docket No. ER03-464-000]

Take notice that on January 30, 2003, Ameren Services Company (Ameren Services) tendered for filing unexecuted Network Integration Transmission Service Agreements and Network Operating Agreements between Ameren Services and Wabash Valley Power Association and Soyland Power Cooperative, Inc. Ameren Services asserts that the purpose of the Agreements is to permit Ameren Services to provide transmission services to Wabash Valley Power Association and Soyland Power Cooperative, Inc. pursuant to Ameren's Open Access Tariff.

Comment Date: February 20, 2003.

21. Ameren Services Company

[Docket No.ER03-465-000]

Take notice that on January 30, 2003, Ameren Services Company (Ameren Services) tendered for filing Service Agreements for Network Integration Transmission Service and a Network Operating Agreement between Ameren Services and MidAmerican Energy Company. Ameren Services asserts that the purpose of the Agreements is to permit Ameren Services to provide transmission service to MidAmerican Energy Company pursuant to Ameren's Open Access Tariff.

Comment Date: February 20, 2003.

22. Tampa Electric Company

[Docket No. ER03-466-000]

Take notice that on January 30, 2003, Tampa Electric Company (Tampa Electric) tendered for filing a notice of cancellation of a rate schedule comprising of an expired interconnection agreement with Florida Power & Light Company (FPL). Tampa Electric proposes that the cancellation be made effective on October 11, 2002.

Tampa Electric states that copies of the filing have been served on FPL and the Florida Public Service Commission.

Comment Date: February 20, 2003.

23. Gulf States Energy, Inc.

[Docket No. ER03-467-000]

Take notice that on January 30, 2003, Gulf States Energy, Inc. (Gulf States Energy, Inc.) petitioned the Federal Energy Regulatory Commission (Commission) for acceptance of Gulf States Energy, Inc Rate Schedule FERC No. 1; the granting of certain blanket approvals, including the authority to sell electricity at market-based rates; and the waiver of certain Commission regulations.

Gulf States Energy, Inc. states that it intends to engage in wholesale electric power and energy purchases and sales as a marketer. Gulf States Energy, Inc. is not in the business of generating or transmitting electric power. Gulf States Energy, Inc. is a Texas Corporation with its principal place of business and office in Dallas, Texas. Gulf States Energy, Inc. is involved in Fuel Oil and Diesel Marketing, and the consulting of electricity. Gulf States Energy, Inc. states it is not associated with any utilities, investor owned or otherwise. Gulf States Energy, Inc. is privately owned by three principals/investors from Dallas, Texas and Norman, Oklahoma.

Comment Date: February 20, 2003.

24. Duke/Louis Dreyfus L.L.C.

[Docket No. ER03-468-000]

Take notice that, on January 30, 2003, Duke/Louis Dreyfus L.L.C. tendered for filing with the Federal Energy Regulatory Commission (Commission) a Notice of Cancellation pursuant to the 18 CFR 35.15, in order to reflect the cancellation of its Market-Based Rate Schedule, designated as Rate Schedule FERC No. 1, originally accepted for filing in Docket No. ER96-108-000.

Comment Date: February 20, 2003.

25. American Electric Power Service Corporation

[Docket No. ER03-469-000]

Take notice that on January 30, 2003, the American Electric Power Service Corporation (AEPSC) tendered for filing an executed Interconnection and Operation Agreement between Appalachian Power Company and Mirant Danville, LLC. The agreement is pursuant to the AEP Companies' Open Access Transmission Service Tariff (OATT) that has been designated as the Operating Companies of the American Electric Power System FERC Electric Tariff Third Revised Volume No. 6, effective July 31, 2001.

AEP requests an effective date of March 29, 2003.

AEP states that a copy of the filing was served upon Mirant Danville and Virginia State Corporation Commission.

Comment Date: February 20, 2003.

26. DTE East China, LLC DTE Energy Trading, Inc.

[Docket No. ER03-470-000]

Take notice that on January 30, 2003, DTE East China, LLC (DTE East China) and DTE Energy Trading, Inc. (DTE Energy Trading) submitted for filing with the Federal Energy Regulatory Commission (Commission), pursuant to section 205 of the Federal Power Act, and part 35 of the Commission's regulations, an Application requesting that the Commission accept for filing an amendment to DTE East China's FERC Electric Tariff, Original Volume No. 3 (Tariff), which provides for the sale of energy and capacity at negotiated rates subject to a cost-based price ceiling, to permit DTE East China to make sales under the Tariff to its power marketing affiliate, DTE Energy Trading, on the condition that DTE Energy Trading will not re-sell such capacity and energy to an affiliate and any such re-sales to non-affiliates will be subject to the same cost-based price ceiling as currently applies to DTE East China.

Comment Date: February 14, 2003.

27. New York Independent System Operator, Inc.

[Docket No. ER03-471-000]

Take notice that on January 30, 2003, the New York Independent System Operator, Inc., (NYISO) filed revisions to Attachment H of its Open Access Transmission Tariff (OATT) to revise Table 1—Wholesale TSC Calculation Information. The sole change is to reflect a preciously approved change in the information for New York State Electric & Gas Corporation.

The NYISO has served a copy fo this filing upon all parties that have executed service agreements under the NYISO's Open Access Transmission Tariff or the Market Administration and Control Area Service Tariff and upon the New York State Public Service Commission.

Comment Date: February 20, 2003.

28. Southwest Power Pool, Inc.

[Docket No. ER03-472-000]

Take notice that on January 30, 2003, Southwest Power Pool, Inc. (SPP) submitted for filing an executed service agreement for Firm Point-to-Point Transmission Service with Western Resources d/b/a Westar Energy (Westar) and an executed service agreement for Firm Point-to-Point Transmission Service with Exelon Generation Company LLC (Exelon).

SPP seeks an effective date of January 1, 2003 for these service agreements. SPP states that Exelon and Westar were served with a copy of this filing.

Comment Date: February 20, 2003.

29. Southwest Power Pool, Inc.

[Docket No. ER03-473-000]

Take notice that on January 30, 2003, Southwest Power Pool, Inc. (SPP) submitted for filing an executed service agreement for Firm Point-to-Point Transmission Service with Southwest Public Service Company d/b/a as Xcel Energy (SPSC).

SPP seeks an effective date of January 1, 2003 for this service agreement. SPP states that SPSC was served with a copy of this filing.

Comment Date: February 20, 2003.

30. PECO Energy Company

[Docket No. ER03-64-001]

Take notice that on January 30, 2003, PECO Energy Company (PECO) made a compliance filing in the above docket in order to change the effective date of a Construction Agreement between PECO and Fairless Energy, LLC (Fairless Energy) related to the Fairless Energy Station, to be located in Fairless Hills, Pennsylvania, as required by the Commission's letter order of December 12, 2002. The Construction Agreement is designated as Service Agreement 792 under PJM Interconnection L.L.C.'s (PJM) FERC Electric Tariff Fourth Revised Volume No. 1. The new effective date for the Construction Agreement is December 20, 2002. Copies of this filing were served on Fairless Energy and PJM.

Comment Date: February 20, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number filed to access the document. For assistance, contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-3138 Filed 2-7-03; 8:45 am]

BILLING CODE 6717-01-P